DEPARTMENT OF TRANSPORTATION

Federal Highway Administration

Notice To Rescind a Notice of Intent To Prepare an Environmental Impact Statement: San Francisco County, CA

AGENCY: Federal Highway Administration (FHWA), DOT.

ACTION: Notice to rescind a Notice of Intent to prepare an Environmental Impact Statement.

SUMMARY: The FHWA, on behalf of the California Department of Transportation (Caltrans), announces this notice to advise the public of the rescinding of the Notice of Intent (NOI) to prepare an Environmental Impact Statement for improvements that were proposed for the Bayview Transportation Improvements Project. The NOI was published in the Federal Register on June 2, 2004. This rescission is based on major changes in the scope of the project.

FOR FURTHER INFORMATION CONTACT: Melanie Brent, Office Chief, California Department of Transportation, District 4, Office of Environmental Analysis, P.O. Box 23660, MS-8B, Oakland, California 94623-0660, Telephone: (510) 286-5231, E-mail: melanie_brent@dot.ca.gov.

SUPPLEMENTARY INFORMATION: Effective July 1, 2007, the Federal Highway Administration (FHWA) assigned, and the California Department of Transportation (Caltrans) assumed, environmental responsibilities for this project pursuant to 23 U.S.C. 327. Caltrans as the delegated National Environmental Policy Act (NEPA) agency is rescinding the NOI to prepare an Environmental Impact Statement for proposed roadway improvements in the southeast sector of San Francisco, California to facilitate truck traffic from U.S. Highway 101 to planned industrial development in the former Hunters Point Shipyard. The NOI is being rescinded because the land use plans for the former Hunters Point Shipyard have evolved to a broader mix of residential, commercial, research and development, and industrial activities and there is a need to connect Hunters Point with Candlestick Point, and other parts of the Bayview District and beyond. The rescoped project will: Emphasize transit, bikes, pedestrians, and autos rather than trucks; conform to the City's “transit first policy” as a means to reduce vehicular traffic on streets as well as on U.S. 101 and its interchanges; connect neighborhoods within the Bayview District through a new bus rapid transit (BRT) route (the “spine” of the proposed project); provide transfer points between the BRT line and other transit routes; construct a new transit center; facilitate bicycle and pedestrian movement on streets that are in need of improvement; and create a more sustainable and viable community. Given the changes in scope of the proposed action, Caltrans intends to prepare an Environmental Assessment to determine if the project has the potential to significantly affect the quality of the human environment.

Dated: August 25, 2011.
Gary Sweeten,
Acting Director, Local Programs, Federal Highway Administration, Sacramento, CA.

[FR Doc. 2011-22349 Filed 8-31-11; 8:45 am]

BILLING CODE 4910-22-P